ENVIRONMENTAL PROTECTION AGENCY

[FRL-7436-5]

Issuance of a General Permit to the National Science Foundation for the Ocean Disposal of Man-Made Ice Piers From its Base at McMurdo Sound on Antarctica

AGENCY: Environmental Protection Agency (EPA).

ACTION: Proposed permit.

SUMMARY: EPA is today proposing to issue a general permit under sections 102(a) and 104(c) of the Marine Protection, Research, and Sanctuaries Act (MPRSA) to the National Science Foundation (NSF) for the disposal at sea of man-made ice piers from its base at McMurdo Sound on Antarctica. The NSF is the agency of the United States Government responsible for oversight of the United States Antarctic Program. The NSF currently operates three major bases in Antarctica: McMurdo Station on Ross Island, adjacent to McMurdo Sound; Palmer Station, near the western terminus of the Antarctic Peninsula; and Amundsen-Scott South Pole Station, at the geographic South Pole. McMurdo Station is the largest of the three stations, and serves as the primary logistics base for Antarctica. In order to unload supplies at McMurdo Station, ships dock at an ice pier at McMurdo Station; this man-made pier has a normal life span of three to five years. At the end of its useful life, all transportable equipment, materials, and debris are removed, the pier is cast loose from its moorings at the base and towed out to McMurdo Sound for disposal, where it melts naturally. Issuance of this general permit is necessary because the pier must be towed out to sea for disposal at the end of its useful life. This proposed general permit is intended to protect the marine environment by setting forth specific permit terms and conditions, including operating conditions during use of the pier and clean-up, with which the NSF must comply before the disposal of such ice piers would take place.

DATES: Written comments on this proposed general permit will be accepted until February 6, 2003. All comments must be received or postmarked by midnight of February 6, 2003, or must be delivered by hand by the close of business of that date to the address specified below.

ADDRESSES: This proposed permit is identified as Docket No. OW-2002-0048. Please send an original and three copies of your comments and enclosures (including references) to the “OW-2002-0048, Comment Clerk”, Water Docket (MC 4101T), U.S. Environmental Protection Agency, 1200 Pennsylvania Avenue, NW., Washington, DC 20460. Hand deliveries should be delivered to: EPA Water Docket, 1301 Constitution Avenue, NW., Room B-135, Washington, DC 20004. Electronic mail comments will be accepted at the e-mail address, ow-docket@epamail.epa.gov, and must be received by close of business of the date specified above. Electronic comments must be submitted as an ASCII, WP 5.1, WP 6.1, or WP 8 file, avoiding the use of special characters and any form of encryption. Electronic comments must be identified by Docket Number OW-2002-0048. Comments and data will also be accepted on discs in ASCII, WP 5.1, WP 6.1, or WP 8 file format. Electronic comments on this notice may be filed online at many Federal Depository Libraries. To ensure that the Agency can read, understand, and therefore properly respond to comments, commenters should cite the paragraph(s) or sections in the proposed permit to which each comment refers. Commenters should use a separate paragraph for each issue discussed. Commenters should submit any references cited in their comments. Commenters who want the Agency to acknowledge receipt of their comments should include a self-addressed, stamped envelope. No comments submitted by facsimile transmission (fax) will be accepted. The record for this proposed permit has been established, as noted above, as Docket No. OW-2002-0048, and includes printed, paper versions of electronic comments. The record is available for inspection from 9 a.m. to 4 p.m., Monday through Friday, excluding legal holidays, at the Water Docket, 1301 Constitution Avenue, NW., Room B-135, Washington, DC 20004. For access to docket materials, call (202) 566-2426, to schedule an appointment.

FOR FURTHER INFORMATION CONTACT: David Redford, Chief, Marine Pollution Control Branch, Oceans and Coastal Protection Division (4504T), U.S. Environmental Protection Agency, 1200 Pennsylvania Avenue, N.W., Washington, DC, 20460; telephone (202) 566-1288.

SUPPLEMENTARY INFORMATION:

A. Background on McMurdo Station Ice Pier

The NSF was established as an independent agency of the Executive Branch of the government in 1950. Following the International Geophysical Year in 1957-1958, President Eisenhower decided that the NSF should have full responsibility for the formulation, coordination, and management of the United States Antarctic Program (USAP). The NSF currently operates three major bases in Antarctica: McMurdo Station on Ross Island, adjacent to McMurdo Sound; Palmer Station, near the western terminus of the Antarctic Peninsula; and Amundsen-Scott South Pole Station, at the geographic South Pole.

McMurdo Station, which is located on the southern tip of Hut Point Peninsula on Ross Island, is the largest of the three stations. This station is the logistics hub of the USAP, with a harbor, landing strips on both sea ice and shelf ice, and a helicopter pad. The majority of personnel and supplies destined for bases and field camps on Antarctica pass through McMurdo Station.

The approximately 85 buildings at the Station range in size from a small radio shack to large three-story structures. This year-round facility has a peak summer population of approximately 1150 persons, and a winter population of 150 to 200. McMurdo Station is the most southerly port in the world that is accessible by ship.

For most of the year, McMurdo Station is closed in by sea ice. However, in early January, a U.S. Coast Guard icebreaker opens a channel to the harbor at McMurdo Station, allowing a fuel tanker and a supply vessel to replenish the station. The tanker normally arrives in mid-January to unload AN-8 fuel (JP-8 fuel with an icing inhibitor added), and unleaded gasoline. The AN-8 fuel is the primary fuel for power generation, heating sources, and aircraft; the gasoline is used for small portable equipment. In early February, the resupply vessel arrives and off-loads the annual provision of supplies for McMurdo Station and other U.S. Antarctic bases. After unloading its cargo, the supply vessel is backloaded with the previous year's accumulation of wastes, which are returned to the United States for disposal and recycling.

To permit the various vessels to dock and unload at McMurdo Station, construction of an ice pier is necessary. This ice pier, which is approximately 800 feet long, 300 feet wide, and 22 feet thick, is constructed during the winter season in the following manner.

Construction begins when the frozen ice pack in McMurdo Sound reaches approximately 0.6 m (2 ft) in thickness. Snow is bermed to a depth of about 0.6 m (2 ft) on the ice pack, at the perimeter of what will be the ice pier. Heavy-duty pumps are then used to flood the ice pack inside the bermed snow with about 10 cm (4 in) of seawater. This water freezes solid in about 24 hours, when the process is repeated with another 10 cm of seawater. This process is repeated until the ice thickness of the pier reaches approximately 1.5 m (5 ft). When that thickness of the pier is achieved, several holes are drilled in the ice near the periphery of the ice pier, and lengths of 2″ steel pipe are inserted vertically into the holes. The space surrounding the pipe-ice interface is flooded with water and allowed to freeze, fixing the pipes in the ice pier. Approximately 2,100 m (6,900 ft) of 1″ steel cable is then woven around the steel pipes frozen in the ice, providing a horizontal reinforcement mat for the first layer of the ice pier.

The entire process is repeated three more times, until the ice pier is approximately 6.7 m (22 ft) thick. However, the horizontal mat of steel cables is not employed in the last repetition of the process; thus, there are three layers of cable reinforcement in the completed ice pier. When the final layer is created and the pier is approximately 6.7 m (22 ft) thick, three or four wooden utility poles are vertically embedded approximately four feet deep in the ice pier to provide support for electrical cables for lighting, power for equipment, and telephone service to structures on the pier. These poles consist of natural, chemically-untreated wood. In addition, just before the pier is completed, several shorter utility poles are frozen into the proximal edge of the pier, to serve as bollards, to attach the pier to the mainland at McMurdo. When the construction of the ice portion of the pier is completed, a 15-20 cm (6-8 in) thick layer of 2 cm (¾ in) or smaller gravel is applied to cover the surface of the pier, to provide a non-slip working surface.

In summary, the following types and approximate quantities of materials would normally be used in the construction of an ice pier at McMurdo Sound Station:

—1″ steel cable: 6,300 m (21,000 ft).

—2″ steel pipe: 200 m (650 ft).

—Wooden utility poles: 3 or 4, plus several bollards.

—2 cm or smaller gravel: 4,200 m³ (5,000 yd ³).

At the end of each austral summer season, the pier is inspected, and as much of the gravel non-slip surface as possible is removed and stored for use the following season. If the pier is to be reused the next year, it is flooded with seawater during the winter to create a new surface for the following summer season. The pier has a normal viable life of three to five years; after that period, factors such as stress cracking and erosion no longer allow the pier to be used. The erosion of the seaward face of the ice pier is caused by such factors as wave action, contact of vessels with the pier face, and the discharge of coolant water from ships docked at the pier.

When the pier has deteriorated to the point that it is not capable of being used the following season, the wooden poles are cut off just above the surface of the ice, the gravel is scraped off for use in the following season, all transportable equipment, materials, and debris are removed, and the pier is physically separated from its attachment to McMurdo Base at the end of the austral summer. It is then towed by a U.S. Coast Guard cutter into McMurdo Sound past the distal end of the open channel in the ice, as near to the Ross Sea currents as possible. The pier is set free in a direction that will allow it to flow with the Ross Sea currents, away from the open channel in the ice. The pier then floats free amidst the ice pack, where it mixes with the annual sea ice, and eventually disintegrates.

Complete information is not available on the time required for melting and disintegration of an ice pier, or on the path an ice pier takes after its release. NSF scientists have estimated, however, that melting and disintegration will take place over several years, and that ice piers will drift from their release point in McMurdo Sound, into the Antarctic Sea, and eventually into the Southern Ocean, where they will presumably float with the currents of the Southern Ocean. These estimates are supported by tracking data collected on an ice pier disposed by NSF in February 1999 under an emergency permit. One condition of that permit was that the pier be tracked by the use of emplaced pingers for a period of one year. Tracking records indicated that the pier traveled approximately 600 miles in a generally northerly direction into the Southern Ocean during the first six months, when it then became locked in ice. No further movement of the ice pier was detected in the second six months of the year-long tracking period. These tracking results confirm what NSF staff believed would happen to any released ice piers.

B. Statutory and Regulatory Background

1. Marine Protection, Research, and Sanctuaries Act (MPRSA)

Section 102(a) of the MPRSA, 33 U.S.C. 1412(a), requires that agencies or instrumentalities of the United States obtain a permit to transport any material from any location for the purpose of dumping into ocean waters. Section 104(c) of the MPRSA, 33 U.S.C. 1414(c), and EPA regulations at 40 CFR 220.3(a) authorize the issuance of a general permit under the MPRSA for the dumping of materials which have a minimal adverse environmental impact, and are generally disposed of in small quantities. General permits currently exist for burial at sea for both cremated and non-cremated human remains, for vessels used by the United States Navy for the purposes of target practice and testing ordnance, and for vessels transported for the purpose of disposal.

The proposed towing of ice piers by the NSF from McMurdo Station for disposal at sea constitutes transportation of material for the purpose of dumping in ocean waters, so it is subject to the MPRSA. The NSF has requested the issuance of a general ocean dumping permit for its ice piers.

2. Obligations Under International Law

On October 2, 1996, President Clinton signed into law the Antarctic Science, Tourism, and Conservation Act of 1996, amending the Antarctic Conservation Act of 1978. This law is designed to implement the provisions of the Protocol on Environmental Protection to the Antarctic Treaty (“the Protocol”). The Protocol was signed by the U.S. on October 4, 1991, ratified on April 17, 1997, and entered into force on January 18, 1998. The Protocol builds on the Antarctic Treaty to extend its effectiveness as a mechanism for ensuring protection of the Antarctic environment. It designates Antarctica as a natural reserve, devoted to peace and science, and sets forth basic principles and detailed, mandatory rules applicable to human activities in Antarctica. It prohibits all activities relating to mineral resources in Antarctica, except for scientific research. It commits signatories to the Protocol (known as Parties) to environmental impact assessment procedures for proposed activities, both governmental and private. Among other things, it also requires Parties to protect Antarctic flora and fauna, and imposes strict limitations on disposal of wastes in Antarctica, and discharges of pollutants into Antarctic waters.

Several sets of regulations exist that will assist in implementation of the Protocol. These include NSF regulations regarding environmental impact assessment of proposed Foundation actions in Antarctica (45 CFR part 641), NSF waste regulations for Antarctica (45 CFR part 671), and EPA regulations regarding environmental impact assessment of non-governmental activities in Antarctica (40 CFR part 8).

EPA wishes to clarify that its proposal to issue a general permit under the MPRSA does not indicate whether the proposed activity is in compliance with other relevant obligations under the Protocol and implementing legislation. Accordingly, the responsible United States authority must make separate determinations with respect to other relevant obligations, and the Agency will coordinate with the responsible authority, as appropriate, in the Agency's consideration of the issuance of a general permit under the MPRSA.

In this regard, the Agency notes that the NSF has completed a USAP Final Environmental Impact Statement (June 1980), a USAP Final Supplemental Environmental Impact Statement (October 1991), and an Initial Environmental Evaluation (May 1992), all of which address in some aspects the construction, operation, and disposal of ice piers at McMurdo Station in Antarctica. All of these documents are available for review at the Office of Polar Programs of the NSF, 4201 Wilson Boulevard, Arlington, VA 22230 (Contact: Joyce Jatko, telephone: (703) 292-8030). The documents did not identify any potential environmental impacts from the disposal of ice piers, other than the minor navigational hazard that would be equivalent to that posed by an ice floe or a small iceberg. The Agency considered the analyses contained in the three documents cited above in developing this proposed general permit.

C. Potential Effects of Ice Pier Disposal

Because the natural creation and disintegration of icebergs occurs constantly in the Antarctic environment, the primary ice component of the NSF piers is not of environmental concern. However, the ice piers also contain approximately 21,000 feet of 1″ steel cable and 650 feet of 2″ steel pipe between the ice layers, that eventually will fall, as the pier disintegrates, to the bottom of McMurdo Sound, the Antarctic Sea, or the Southern Ocean. The steel cable and pipe will sink permanently to the bottom, and over considerable time, will dissolve through oxidative processes, unless they fall into very deep anaerobic waters, where they would not dissolve.

Because there are approximately 2,100 m (6,900 ft) of cable frozen in each of the three layers of the ice pier, it is possible that during the melting process there may be loops of cable suspended from the bottom of the ice pier. These loops will remain for brief periods of time before the cable in each layer is released from the bottom of the pier due to melting. The entire length of 2,100 m (6,900 ft) of cable would then descend rapidly to the ocean floor.

The Agency has considered the possibility of these loops of cable entangling organisms in the marine environment. The only animals that could potentially become entangled in the suspended loops of cable are large whales of the Antarctic Sea or the Southern Ocean. However, these animals are known to have sophisticated natural sonar (sound navigation and ranging) systems, are able to detect and precisely identify objects at considerable distances with those systems, and normally will avoid large objects such as icebergs. In addition, because in excess of 80 percent of icebergs (and the ice pier) is submerged beneath the surface, there is no reason to believe any cetaceans will approach an ice pier, by either coming near it on the surface to breathe, or by swimming beneath it. Thus, the possibility of entanglement of large animals by suspended loops of cable from the ice pier is regarded as very minimal.

Additionally, the Agency and the NSF have discussed the possibility of seals becoming ensnared in any loops of cable hanging from the ice pier. Although seals are known to routinely haul out on ice floes to rest and to breed, EPA does not believe there is any danger from any cables embedded in the edges of the ice pier to Antarctic seal populations in their passage from the ocean to the ice surface, because any loops of cable will be visible and easily avoided.

There is no danger to any marine avian species from the release of the ice piers. Penguins, if they are in the area, can easily hop onto, and off, the edge of the ice pier, if necessary. Further, there is no permanent penguin population in the area of McMurdo Station on a year-round basis. Any penguins in the area arrive at their usual breeding rookeries in late October of each year. Their eggs are hatched in November, the chicks are fledged no later than late December of each year, and all penguins, except for a very few stragglers, are gone from the McMurdo Station area by late January every year. On those years when the ice pier must be cut loose, the detachment from McMurdo Station occurs in late February. Thus, there are no penguins in the area at that time, since the birds will have already gone out to sea again.

Further, both the National Marine Fisheries Service and the Fish and Wildlife Service have agreed that the disposal of ice piers from McMurdo Station will not have any effect on endangered or threatened species, nor is the action likely to adversely affect any critical habitats.

In addition, the time that the loops of cable are suspended from the bottom of the ice pier would be expected to be relatively brief. Once a substantial portion of the cable in each layer is released from the ice by melting processes, the weight of the suspended cable will act to detach the remainder of the layer of cable from the pier. As discussed above, the entire length of cable would then fall rapidly to the ocean bottom.

Although the wooden utility poles and the bollards are cut off at the level of the ice surface before the pier is towed for dumping, the six or seven stump ends of the poles, approximately four feet long, remain frozen in the pier. (The NSF requires that the longer, exposed lengths of the utility poles be returned for recycling back to the United States; they are never disposed of in the ocean). When eventually released from the pier during the disintegration process, the stump ends of the poles could float for several years, providing substrate for attachment of sessile organisms. Eventually, however, the poles will be destroyed by biological processes. Navigational hazards from the poles are unlikely, because of their small size and limited number.

Of potentially greater environmental concern are any operational discharges, leaks, or spills that may have contaminated the surface of the pier over the period of its existence. Examples of such possible releases include AN-8 (jet fuel formulated for cold environment use by heavy diesel engines and aircraft) or gasoline during the annual unloading process from the resupply oil tanker; spills of material due to leaks or cracks in containers or drums during the annual offloading from the supply vessel; leaks of AN-8, gasoline, engine lubricating oil, hydraulic fluid, or ethylene glycol (antifreeze) from equipment working on the pier; or spills of liquids or chemicals being stored on, or moved across, the pier. These discharges, leaks, and spills could result in contamination of parts of the pier with chemical compounds of concern to the marine environment.

To assess this potential further, in February 1993 the NSF analyzed eleven ice samples taken from the ice pier at McMurdo Station. The samples were collected in the following manner. The central portion of the pier was first divided into 21 equal area quadrats, each approximately 100′ × 100′. The center of each plot was then identified, and four additional sample locations were identified in an equidistant “X” pattern from the center sample point. One sample was collected from each of the five points in each plot, and the five sub-samples were then composited into a single sample for each plot. Composited samples were analyzed for alternating plots throughout the grid pattern, i.e., the composited sample for every other plot was analyzed, for a total of eleven analyses. The samples were analyzed for two compounds: ethylene glycol (antifreeze) and total extractable hydrocarbons (TEH). Ethylene glycol was selected because of the possibility of leaks from engine blocks; TEH was selected because of the need for a broad spectrum analytical procedure, and because the presence of TEH would represent any possible extractable petroleum discharges onto the surface of the ice pier. Ethylene glycol was not detected in any of the eleven samples, at a detection limit of 16 mg/kg; TEH was not detected in ten of the eleven samples, at a detection limit of 3 mg/kg. Only one sample, collected beneath two 55-gallon fuel drums used to provide heat for a warming hut on the ice pier, showed a concentration of 70 mg/kg. This sample was collected directly underneath fuel drums where dripping had occurred during drum exchange operations.

Subsequently, the NSF issued a directive that at all locations where fuel drums for building heating systems, or fuel transfer stations are found, such locations shall be underlain with secondary containment methods, to facilitate capture of leaks or spills. Secondary containment methods include large metal pans or impermeable liners placed beneath the potential contaminant source. Drip pans were installed under the fuel drums at the warming hut on the ice pier.

In February 1994, the approximately 800′ by 300′ surface of the ice pier was again divided into 21 quadrats for further examination of locations of contamination. NSF personnel examined the entire surface of the pier, after the non-slip gravel surface had been removed, and any points on the pier showing signs of contamination from leaks or spills were marked and noted. Five samples were taken from each of the 21 quadrats; the samples were composited and analyzed for total petroleum hydrocarbons (TPH). TPH analysis, which identifies a narrower range of analytes than the broader TEH analytical procedure, was used because previous analyses demonstrated that only analytes from the narrower range are present. TPH has a detection limit of 10 mg/kg; for all samples except one, TPH was undetected. That single sample had a TPH concentration of 50 mg/kg. Analysis of that single sample was unable to specifically determine the chemical composition of the contaminants; vehicle engine fuel or hydraulic fluids were identified as the most likely possibilities.

The NSF has a spill prevention, control, and countermeasures (SPCC) plan for all of the stations and bases under NSF jurisdiction in Antarctica. The plan, revised in September 1994, and currently being updated, includes a section addressing fuel storage and transfer systems for the ice pier at McMurdo Station. The SPCC plan identifies the annual unloading of petroleum products from the supply tanker as having the greatest potential for accidental discharge of contaminants. Previously, four-inch diameter hoses made up in 50-foot lengths were used to unload fuel from the tanker to the tank farms on the mainland at McMurdo Station. However, to reduce the risk of a potential fuel spill during the tanker unloading operation, new six-inch diameter hoses made up in 660-foot lengths replaced the older hoses in 1993. The new hoses significantly reduced the number of hose connections (and potential leaks) on the ice pier. For further protection, the connecting point from the tanker to the transfer hose was underlain by large drip pans.

In addition, the SPCC plan identifies the annual unloading of drummed lubricants, solvents, and hazardous materials from the cargo freighter, and the subsequent loading of the freighter with materials destined to be returned to New Zealand or the United States, as potential sources of accidental discharge or spills. As a result, to reduce the potential for discharges, the plan requires all materials received from, or loaded onto, the cargo vessel to be containerized in double-walled military vans.

D. Discussion

Today EPA is proposing to issue a new general permit to NSF and its agents for the ocean dumping of man-made ice piers from the NSF research station at McMurdo Sound, Antarctica, subject to specific conditions. Agents of the NSF are included in the permit because transportation for the purpose of dumping the pier may be by vessels which are not under the direct ownership or operational control of the NSF, e.g., the U.S. Military Sealift Command, the U.S. Navy, or U.S. Coast Guard vessels. Further, the proposed general permit applies only to the ocean dumping of man-made ice piers from the NSF station at McMurdo Sound, Antarctica. The 1992 amendments to the MPRSA (Pub. L. 102-580) provide that permits under the MPRSA shall be issued for a period not to exceed seven years (section 104(a), 33 U.S.C. 1414(a)); consequently, the term of this proposed permit is limited to a maximum of seven years.

The proposed general permit establishes several specific conditions that must be met during the life of, and prior to the ocean dumping of, the ice pier. In addition, it requires the NSF to report by June 30 of every year to the Director of the Oceans and Coastal Protection Division, in EPA's Office of Water, on any spills, discharges, or clean-up procedures on the ice pier, and on any ocean dumping of ice piers from McMurdo Station conducted under this general permit.

With the institution of new protective measures, such as longer length hoses for unloading petroleum products from the annual supply tanker, and new precautions taken in the handling and return to bases outside Antarctica of used or contaminated chemicals, solvents, and hazardous materials, the chance of a spill or a discharge of these materials is low. There is considerable vehicular traffic on the ice pier during the austral summer season, and the possibility of engine block leaks or discharges from these vehicles cannot be totally avoided. However, the NSF has informed the Agency that vehicles are parked on the pier for only brief periods of time, ranging from minutes to less than an hour, and that no vehicles are ever parked on the pier overnight.

The proposed general permit requires that the NSF have an SPCC plan in place, consistent with the requirements of 40 CFR 112.3, for the ice pier that addresses:

(1) The unloading of petroleum products from supply tankers to the storage tanks at McMurdo Station;

(2) The unloading of drummed chemicals, petroleum products, and material (cargo) from cargo freighters to supply depots at McMurdo Station; and

(3) The loading of materials to freighters destined to be returned to bases outside Antarctica.

The proposed permit requires that the SPCC plan include methods to minimize the accidental release or discharge of any products to the ice pier. In addition, the proposed general permit requires that the following clean-up and reporting procedures must be followed by NSF in the event of a spill or discharge on the pier:

(1) All spills or discharges must be cleaned up within two hours of the spill or discharge, or as soon as possible thereafter.

(2) If a spill or discharge occurs, clean-up procedures must be completed to a level below any visible evidence of the spill or discharge.

(3) As part of normal permit monitoring requirements, an official record of the following information shall be kept by NSF:

(a) The date and time of all spills or discharges, the location of the spill or discharge, the approximate volume of the spill or discharge, clean-up procedures employed, and the results;

(b) The number of wooden poles remaining in the pier at the time of release from McMurdo Station, and their approximate length;

(c) The approximate length of the steel cables remaining in the pier at the time of its release;

(d) Any other substances remaining on the pier at the time of its release; and

(e) The date of detachment of the pier from McMurdo Station, and the geographic coordinates (latitude and longitude) of the point of final release of the pier in McMurdo Sound.

(4) A copy of this record shall be submitted to the Director of the Oceans and Coastal Protection Division, in the EPA's Office of Water, by June 30 of every year as part of the annual reporting requirements.

The conditions specified in the proposed permit are intended to protect the Antarctic environment against release of contaminants from the McMurdo Station ice pier following its ocean dumping and subsequent melting. As noted above, section 104(c) of the MPRSA, 33 U.S.C. 1414(c), and EPA regulations at 40 CFR 220.3(a) authorize the issuance of general permits for the dumping of materials which have minimal adverse environmental impacts.

In light of the testing and analyses described above, and the conditions which are stipulated in the proposed permit for the disposal of ice piers, it is the determination of the Agency that only minimal adverse environmental impacts would result from the dumping of ice piers from the NSF base at McMurdo Station in Antarctica.

Furthermore, the NSF is directed, as a condition of this permit, to utilize a methodology to track any ice piers released from McMurdo Station for a period of one year from the date of release of the pier. Such methodologies may include the use of satellite-tracked pingers placed on the ice pier, or any other methodology that will allow data to be collected on the course, speed, and location of the ice pier. The results of these tracking efforts are to be included in the reports that the NSF is required to submit to the Agency. The period of one year was chosen by the Agency for several reasons: first, batteries for pinger tracking operations beyond a period of one year become considerably heavier and bulkier (and a greater source of pollution to the marine environment when the ice piers eventually melt); and further, one year's measurements should provide substantial evidence concerning the track of ice piers in the dissolution process.

The NSF shall submit tracking reports to the Agency for all releases of ice piers from McMurdo Station under this permit. If tracking results demonstrate that all such ice piers released have generally followed the same path and time duration for the one year following release, the Agency will consider whether further tracking efforts and tracking reports shall be required from the NSF under any future versions of this permit.

Considering that any contaminants remaining on the surface of the piers are expected to be extremely minimal, and further, that the area over which the melting and disintegration of the piers occurs is immense, the potential for damage to the environment from ocean dumping of any McMurdo Station ice piers is minimal. In addition, the possibility of entanglement of large organisms in suspended loops of cable from the melting ice piers has been determined by the Agency to be very minimal; further discussion of this issue can be found in “C. Potential Effects of Ice Pier Disposal,” above.

Further, it should be noted that the issuance of an ocean dumping permit to the NSF does not in any way relieve the NSF of meeting any of its obligations under the Antarctic Protocol, the Antarctic Conservation Act, or the implementing regulations.

Statutory and Executive Order Reviews

A. Paperwork Reduction Act

The Paperwork Reduction Act, 44 U.S.C. 3501 et seq., is intended to minimize the reporting and record-keeping burden on the regulated community, as well as to minimize the cost of Federal information collection and dissemination. In general, the Act requires that information requests and record-keeping requirements affecting ten or more non-Federal respondents be approved by the Office of Management and Budget. Since this proposed general permit affects only a single Federal agency's record-keeping and reporting requirements, it is not subject to the requirements of the Paperwork Reduction Act.

B. Endangered Species Act

The Endangered Species Act (ESA) imposes duties on Federal agencies regarding endangered species of fish, wildlife, or plants and habitat of such species that have been designated as critical. Section 7(a)(2) of the ESA and its implementing regulations (50 CFR part 402) require EPA to ensure, in consultation with the Secretary of Interior or Commerce, that any action authorized, funded, or carried out by EPA in the United States or upon the high seas, is not likely to jeopardize the continued existence of any endangered or threatened species, or adversely affect their critical habitat.

In compliance with section 7 of the ESA, an endangered species list for the affected area of ocean dumping of ice piers from the NSF facility at McMurdo Station was requested by EPA and received from both the Fish and Wildlife Service (F&WS) of the Department of the Interior and the National Marine Fisheries Service (NMFS) of the Department of Commerce. No endangered, threatened, or candidate species are reported to potentially occur in the affected area.

EPA has discussed this matter with both the F&WS and the NMFS pursuant to section 7 of the ESA, and the agencies have agreed that the ocean dumping of ice piers by the NSF or its agents from McMurdo Station in Antarctica will have no effect on endangered or threatened species. EPA will consider any comments offered by either the F&WS or the NMFS on this issue before promulgating a final general permit on the ocean dumping of ice piers.

Dated: January 2, 2003.
Suzanne E. Schwartz,
Director, Oceans and Coastal Protection Division.

The proposed permit is as follows:

Disposal of Ice Piers From McMurdo Station, Antarctica

The United States National Science Foundation and its agents are hereby granted a general permit under sections 102(a) and 104(c) of the Marine Protection, Research, and Sanctuaries Act, 33 U.S.C. 1412(a) and 1414(c), to transport ice piers from the McMurdo Sound, Antarctica, research station for the purpose of ocean dumping, subject to the following conditions:

(a) The NSF shall have a spill prevention, control, and countermeasures (SPCC) plan in place, consistent with the requirements of 40 CFR 112.3, for the McMurdo Station ice pier. The SPCC plan shall address procedures for loading and unloading the following materials, and shall include methods to minimize the accidental release or discharge of any of the following materials to the ice pier:

(1) Petroleum products unloaded from supply tankers to the storage tanks at McMurdo Station;

(2) Drummed chemicals, petroleum products, and materiel unloaded from cargo freighters to supply depots at McMurdo Station; and

(3) Materials loaded to freighters destined to be returned to bases outside Antarctica.

(b) If a spill or discharge occurs on an ice pier, clean-up procedures must be completed by NSF or its contractors to a level below any visible evidence of the spill or discharge. All spills or discharges on an ice pier must be cleaned up within two hours of the spill or discharge, or as soon as possible thereafter.

(c) As part of normal monitoring requirements, a record of the following information shall be kept by NSF:

(1) The date and time of all spills or discharges, the location of the spill or discharge, a description of the material that was spilled or discharged, the approximate volume of the spill or discharge, clean-up procedures employed, and the results;

(2) The number of wooden poles remaining in the pier at the time of its release from McMurdo Station, and their approximate length;

(3) The approximate length of the steel cables remaining in the pier at the time of its release from McMurdo Station;

(4) Any other substances remaining on the pier at the time of its release from McMurdo Station; and

(5) The date of detachment of the pier from McMurdo Station, and the geographic coordinates (latitude and longitude) of the point of final release of the pier in McMurdo Sound or the Antarctic Sea.

(d) The non-embedded ends of all wooden utility poles and bollards will be cut off from the ice pier prior to disposal, and shall not be disposed of in the ocean.

(e) Prior to the ocean dumping of any ice piers, the following actions shall be taken by NSF:

(1) Other than the matter physically embedded in the ice pier (i.e., the ends of light poles or bollards frozen in the pier, and the strengthening cables), all other objects (including the non-embedded portions of bollards used for maintaining a connection between the pier and the mainland, the non-embedded portions of poles used for lighting, power, or telephone connections, and any removable equipment, debris, or objects of anthropogenic origin), shall be removed from the pier prior to dumping.

(2) The gravel non-slip surface of the pier shall be removed to the maximum extent possible, and stored on the mainland for subsequent use.

(3) A methodology to track any ice piers released from McMurdo Station shall be established and utilized for a period of one year from the date of release of the ice pier. The results of these tracking efforts are to be included in the annual reports that the NSF is required to submit to EPA.

(f) The NSF shall submit a report by June 30 of every year to the Director of the Oceans and Coastal Protection Division, in EPA's Office of Water, on (1) Any spills, discharges, or clean-up procedures on the ice pier at McMurdo Station, (2) any ocean dumping of ice piers from McMurdo Station, and (3) any tracking efforts of ice piers released from McMurdo Station under this general permit for the year preceding the date of the annual report.

(g) For the purpose of this permit, the term “ice pier(s)” means those man-made ice structures containing embedded steel cable, and any remaining gravel frozen into the surface of the pier, that are constructed at McMurdo Station, Antarctica, for the purpose of off-loading the annual provision of materiel and supplies for the base at McMurdo Station and other U.S. Antarctic bases, and for loading the previous year's accumulation of wastes, which are returned to the United States.

(h) This permit shall be valid until [add date—seven years from the date of issuance].

[FR Doc. 03-335 Filed 1-6-03; 8:45 am]

BILLING CODE 6560-50-P